DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Co-Location and Integration of HIV Prevention and Medical Care Into Behavioral Health Program—Revision

The Substance Abuse and Mental Health Services Administration's (SAMHSA) Center for Mental Health Services, (CMHS), Center for Substance Abuse Prevention (CSAP), Center for Substance Abuse Treatment (CSAT) are requesting approval from the Office of Management and Budget (OMB) for revised data collection activities associated with their Co-location and Integration of HIV Prevention and Medical Care into Behavioral Health Program.

This information collection is needed to provide SAMHSA with objective information to document the reach and impact of services funded to address HIV and Hepatitis in the context of substance use disorders and mental illness. The information will be used to monitor quality assurance and quality performance outcomes for organizations funded by its grant programs. Collection of the information included in this request is authorized by Section 505 of the Public Health Service Act (42 U.S.C. 290aa-4)—Data Collection.

Further support for this collection was provided in the 2013 Senate Appropriations Report 113-71. The report urged SAMHSA to “focus its efforts on building capacity and outreach to individuals at risk or with a primary substance abuse disorder and to improve efforts to identify such individuals to prevent the spread of HIV.” Additional support for this data collection effort is provided by the 2013 National HIV/AIDS Strategy which instructed SAMHSA to “support and rigorously evaluate the development and implementation of new integrated behavioral health models to address the intersection of substance use, mental health, and HIV.”

The table below reflects the revised annualized hourly burden.

Instrument | Number of respondents | Number of responses per respondent | Total number of responses | Hours per response per respondent | Total burden hours
RHHT Testing Form:
Co-Located and Integrated Care Program (CMHS, CSAT, CSAP) | 5,000 | 1 | 5,000 | 0.13 | 650
Targeted Capacity Expansion: Substance Use Disorder Treatment for Racial/Ethnic Minority Populations at High-Risk for HIV/AIDS CSAT RFA: TI-15-006 | 5,000 | 1 | 5,000 | 0.13 | 650
Targeted Capacity Expansion: Substance Abuse Treatment for Racial/Ethnic Minority Women at High Risk for HIV/AIDS CSAT RFA: TI-13-011 | 8,000 | 1 | 8,000 | 0.13 | 1,040
Targeted Capacity Expansion Program: Substance Abuse Treatment for Racial/Ethnic Minority Populations at High-Risk for HIV/AIDS CSAT RFA: TI-12-007 | 10,400 | 1 | 10,400 | 0.13 | 1,352
Minority Serving Intuitions (MSI) Partnerships with Community-Based Organizations (CBO) (MSI CBO). FY 2013 CSAP | 4,000 | 1 | 4,000 | 0.13 | 520
Minority Serving Intuitions (MSI) Partnerships with Community-Based Organizations (CBO) (MSI CBO). FY 2014 CSAP | 3,500 | 1 | 3,500 | 0.13 | 455
Minority Serving Intuitions (MSI) Partnerships with Community-Based Organizations (CBO) (MSI CBO). FY 2015 CSAP | 5,000 | 1 | 5,000 | 0.13 | 650
Capacity Building Initiative for Substance Abuse and HIV Prevention Services for At-Risk Racial/Ethnic Minority Youth and Young Adults (HIV CBI) FY 2015 CSAP | 6,000 | 1 | 6,000 | 0.13 | 780
Total | 46,900 |  | 46,900 |  | 6,097

Written comments and recommendations concerning the proposed information collection should be sent by November 9, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-25659 Filed 10-7-15; 8:45 am]

BILLING CODE 4162-20-P